DEPARTMENT OF DEFENSE

[OMB Control Number 0704-0267]

Information Collection Requirement; Defense Federal Acquisition Regulation Supplement; Contract Facilities Capital Cost of Money

AGENCY: Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through April 30, 2004. DoD proposes that OMB extend its approval for use through April 30, 2007.

DATES: DoD will consider all comments received by March 12, 2004.

ADDRESSES: Respondents may submit comments via the Internet at http://emissary.acq.osd.mil/dar/dfars.nsf/pubcomm. As an alternative, respondents may e-mail comments to: dfars@osd.mil. Please cite OMB Control Number 0704-0267 in the subject line of e-mailed comments.

Respondents that cannot submit comments using either of the above methods may submit comments to: Defense Acquisition Regulations Council, Attn: Mr. Ted Godlewski, OUSD(AT&L)DPAP(DAR), IMD 3C132, 3062 Defense Pentagon, Washington, DC 20301-3062; facsimile (703) 602-0350. Please cite OMB Control Number 0704-0267.

At the end of the comment period, interested parties may view public comments on the Internet at http://emissary.acq.osd.mil/dar/dfars.nsf.

FOR FURTHER INFORMATION CONTACT: Mr. Ted Godlewski, (703) 602-2022. The information collection requirements addressed in this notice are available electronically via the Internet at: http://www.acq.osd.mil/dp/dars/dfars.html. Paper copies are available from Mr. Ted Godlewski, OUSD(AT&L)DPAP(DAR), IMD 3C132, 3062 Defense Pentagon, Washington, DC 20301-3062.

SUPPLEMENTARY INFORMATION: Title, Associated Form, and OMB Number: Defense Federal Acquisition Regulation Supplement (DFARS) Part 230, Cost Accounting Standards Administration; DD Form 1861, Contract Facilities Capital Cost of Money; OMB Control Number 0704-0267.

Needs and Uses: A DD Form 1861 is normally completed for each proposal for a contract for supplies or services that is priced and negotiated on the basis of cost analysis, and for each indirect cost rate negotiation. Contracting officers use DD Form 1861 in computing profit objectives for negotiated contracts. The form enables contracting officers to differentiate profit objectives for various types of contractor assets—land, buildings, and equipment.

Affected Public: Businesses and other for-profit entities.

Reporting Frequency: On occasion.

Number of Respondents: 15,000.

Responses Per Respondents: Approximately 3.

Annual Responses: 45,138.

Average Burden Per Response: 10 hours.

Annual Burden Hours: 451,380.

Summary of Information Collection

This information collection includes requirements relating to DFARS Part 230, Cost Accounting Standards Administration. DFARS Subpart 230.70, Facilities Capital Employed for Facilities in Use, prescribes use of DD Form 1861 as a means of linking Form CASB-CMF, Facilities Capital Cost of Money Factors Computation, and DD Form 1547, Record of Weighted Guidelines Application. The contracting officer uses DD Form 1861 to record and compute contract facilities capital cost of money and facilities capital employed, and carries the facilities capital employed amount to DD Form 1547 to develop a profit objective. When the weighted guidelines method is used as one of the three structured approaches for developing a prenegotiation profit or fee objective (in accordance with DFARS 215.404-4), completion of DD Form 1861 requires contractor information not included on Form CASB-CMF, i.e., distribution percentages of land, buildings, and equipment for the business unit performing the contract. DFARS 230.7004-2 directs the contracting officer to choose the most practical method of obtaining this information, e.g., from the contract administration office or corporate administrative contracting officer, or through a solicitation provision.

Michele P. Peterson,
Executive Editor, Defense Acquisition Regulations Council.

[FR Doc. 04-566 Filed 1-9-04; 8:45 am]

BILLING CODE 5001-08-P